DEPARTMENT OF HOMELAND SECURITY

U.S. Immigration and Customs Enforcement

[OMB Control Number 1653-0038]

Agency Information Collection Activities: Student and Exchange Visitor Information System (SEVIS); Revision of a Currently Approved Collection

AGENCY: U.S. Immigration and Customs Enforcement, Department of Homeland Security.

ACTION: 60-Day notice.

SUMMARY: The Department of Homeland Security (DHS), U.S. Immigration and Customs Enforcement (ICE) will be submitting the following information collection request to the Office of Management and Budget (OMB) for review and clearance in accordance with the Paperwork Reduction Act of 1995. The information collection is published in the Federal Register to obtain comments from the public and affected agencies.

DATES: Comments are encouraged and will be accepted until November 3, 2025.

ADDRESSES: All submissions received must include the OMB Control Number 1653-0038 in the body of the correspondence, the agency name and Docket ID ICEB-2021-0001. All comments received will be posted without change to http://www.regulations.gov, including any personal information provided.

(1) Online. Submit comments via the Federal eRulemaking Portal website at http://www.regulations.gov under eDocket ID number ICEB-2021-0001.

FOR FURTHER INFORMATION CONTACT: If you have questions related to this collection, call or email Sharon Synder, Student and Exchange Visitor Program, 703-603-3400 or 1-800-892-4829, email: sevp@ice.dhs.gov.

SUPPLEMENTARY INFORMATION:

Comments

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Revision of a Currently Approved Collection.

(2) Title of the Form/Collection: Student and Exchange Visitor Information System (SEVIS).

(3) Agency form number, if any, and the applicable component of the Department of Homeland Security sponsoring the collection: Form I-17 and Form I-20; U.S. Immigration and Customs Enforcement.

(4) Affected public who will be asked or required to respond, as well as a brief abstract: Primary: Nonprofit institutions and individuals or households. SEVIS is an internet-based data entry, collection, and reporting system. It collects information on SEVP-certified schools via the Form I-17, “Petition for Approval of School for Attendance by Nonimmigrant Student,” and collects information on the F and M nonimmigrant students that the SEVP-certified schools admit into their programs of study via the Form I-20, “Certificate of Eligibility for Nonimmigrant (F-1) Student Status—For Academic and Language Students” and “Certificate of Eligibility for Nonimmigrant (M-1) Student Status—For Vocational Students.”

The Form I-17 will be revised to collect previous school codes associated with the school and/or owner, school website links, emergency contact information for the school, and additional information on school ownership, as well as to remove the fax number field, which is now obsolete. SEVP will be redesigning the “Program of Study” page on the Form I-17 to better capture the educational level, degree, program of study, time necessary to complete the program, assigned Classification of Instructional Programs (CIP) code, and mode of instruction. In addition, SEVP will require schools to indicate whether a program of study is conducted predominantly online, in a hybrid or low residency format and whether Curricular Practical Training is a component of a program of study. Other updates to the Form I-17 will allow DSOs to select “weeks” as an academic term length, require DSOs to provide separate numbers for domestic and international students when listing the “Average Annual Number of Students,” allow DSOs to list annual costs by program of study or degree level, allow DSOs to provide additional contact information, require DSOs to indicate whether they work full-time or part-time, and change a DSO's “Title” to “Job Title,” to better collect information on their position at the school.

The Form I-20 will be revised to collect contact and other information on legal Guardians of minor F and M students, the date of graduation/degree awarded, clarifying details on the source and type of the financial support for the F and M student, as well information to indicate whether a student is engaging in online education, on-campus employment, and whether any employment or training is being conducted on-site or remotely.

(5) An estimate of the total number of respondents: The estimated total number of respondents for the information requests Form I-17 and Form I-20 is 20,890.

(6) An estimate of the total public burden (in hours) associated with the collection: The total estimated annual hour burden associated with this collection of information in hours is 815,505 hours. There is an additional one-time burden in the first year of this collection of 6,778 hours.

Dated: August 29, 2025.
Scott Elmore,
PRA Clearance Officer, U.S. Immigrations and Customs Enforcement, Department of Homeland Security.

[FR Doc. 2025-16875 Filed 9-2-25; 8:45 am]

BILLING CODE P